Presidential Determination No. 2022-23 of September 15, 2022

Presidential Determination on Major Drug Transit or Major Illicit Drug Producing Countries for Fiscal Year 2023

Memorandum for the Secretary of State

By the authority vested in me as President by the Constitution and the laws of the United States, including section 706(1) of the Foreign Relations Authorization Act, Fiscal Year 2003 (Public Law 107-228) (FRAA), I hereby identify the following countries as major drug transit or major illicit drug producing countries: Afghanistan, The Bahamas, Belize, Bolivia, Burma, Colombia, Costa Rica, the Dominican Republic, Ecuador, El Salvador, Guatemala, Haiti, Honduras, India, Jamaica, Laos, Mexico, Nicaragua, Pakistan, Panama, Peru, and Venezuela.

A country's presence on the foregoing list is neither a reflection of its government's counterdrug efforts nor level of cooperation with the United States. Consistent with the statutory definition of a major drug transit or major illicit drug producing country set forth in sections 481(e)(2) and 481(e)(5) of the Foreign Assistance Act of 1961, as amended (Public Law 87-195) (FAA), the reason countries are placed on the list is the combination of geographic, commercial, and economic factors that allow drugs to be transited or produced, even if a government has engaged in robust and diligent narcotics control and law enforcement measures.

Pursuant to section 706(2)(A) of the FRAA, I hereby designate Afghanistan, Bolivia, Burma, and Venezuela as having failed demonstrably to make substantial efforts during the previous 12 months to both adhere to their obligations under international counternarcotics agreements and to take the measures required by section 489(a)(1) of the FAA. Included with this determination are justifications for the designations of Afghanistan, Bolivia, Burma, and Venezuela, as required by section 706(2)(B) of the FRAA. I have also determined, in accordance with provisions of section 706(3)(A) of the FRAA, that United States programs that support Afghanistan, Bolivia, Burma, and Venezuela are vital to the national interests of the United States.

Addressing the ongoing and increasingly staggering toll of the drug addiction and overdose epidemic in the United States, which tragically claimed nearly 108,000 lives in 2021, remains one of the foremost public health priorities of my Administration. Through our 2022 National Drug Control Strategy, my Administration will focus on critical drivers of the epidemic, including untreated addiction and drug trafficking, and will redouble efforts to strengthen foreign partnerships to address drug production and trafficking, particularly to tackle the shared challenge of synthetic drugs.

My Administration's Fiscal Year 2023 Budget request calls for $24.3 billion to support evidence-based prevention and treatment, including harm reduction and recovery support services, with targeted investments to meet the needs of populations at greatest risk for overdose and substance use disorder. The Budget request also includes significant investments to reduce the supply of illicit drugs originating from beyond our borders.

The United States is committed to working together with the countries of the Western Hemisphere as neighbors and partners to meet our shared challenges of drug production, trafficking, and use, and to counter the deleterious impact of narcotics-related corruption. My Administration is expanding cooperation globally to bolster efforts to address the production and trafficking of dangerous synthetic drugs that are responsible for so many of our overdose deaths, particularly fentanyl, its analogues, and methamphetamine. We will look to expand cooperation with China, India, and other chemical source countries to disrupt the global flow of synthetic drugs and their precursor chemicals. Under the U.S.-Mexico Bicentennial Framework for Security, Public Health, and Safe Communities, we support and encourage Mexican efforts to target clandestine drug laboratories, chemists, and companies involved in chemical diversion; to enact stronger chemical control and accountability frameworks; to increase interdiction of precursor chemicals and finished synthetic drugs in transit; and to arrest key organized crime figures involved in the synthesis and trafficking of fentanyl and methamphetamine and the laundering of drug proceeds. The United States is encouraged by Afghanistan's ban on opium poppy cultivation, production, and trafficking, and will monitor the implementation of this ban. The United States is also encouraged by Bolivia's counternarcotics efforts over the past year, including increased cooperation with international partners. I encourage Bolivia's government to take additional steps to safeguard the country's licit coca markets from criminal exploitation, to reduce illicit coca cultivation that continues to exceed legal limits under Bolivia's domestic laws for medicinal and traditional use, and to continue international collaboration to disrupt drug traffickers. In addition, while the foregoing list is focused by law on drug trafficking and the production of plant-based drugs and synthetic opioids that significantly affects the United States, addressing the global proliferation of other dangerous synthetic drugs remains a key drug control priority of my Administration.

You are authorized and directed to submit this designation, with the Afghanistan, Bolivia, Burma, and Venezuela memoranda of justification, under section 706 of the FRAA, to the Congress, and to publish this determination in the Federal Register.

THE WHITE HOUSE,

Washington, September 15, 2022

[FR Doc. 2022-20851

Filed 9-22-22; 11:15 am]

Billing code 4710-10-P